EXPORT-IMPORT BANK

[Public Notice: 2025-6031]

Agency Information Collection Activities: Submission to the Office of Management and Budget for Review and Approval; Comment Request; EIB 03-02, Application for Medium Term Insurance, Direct Loan or Guarantee

AGENCY: Export-Import Bank of the U.S.

ACTION: Submission for OMB review and comments request.

SUMMARY: The Export-Import Bank of the United States (EXIM), as a part of its continuing effort to reduce paperwork and respondent burden, invites the general public and other Federal Agencies to comment on the proposed information collection, as required by the Paperwork Reduction Act of 1995.

DATES: Comments should be received on or before September 5, 2025 to be assured of consideration.

ADDRESSES: Comments may be submitted electronically on www.regulations.gov (EIB 03-02), by email to Donna Schneider, donna.schneider@exim.gov, or by mail to Donna Schneider, Export-Import Bank, 811 Vermont Ave. NW, Washington, DC 20571. The information collection tool can be reviewed at: https://img.exim.gov/s3fs-public/pub/pending/eib03-02.pdf.

FOR FURTHER INFORMATION CONTACT: To request additional information, please contact Donna Schneider donna.schneider@exim.gov, 202-565-3612.

SUPPLEMENTARY INFORMATION:

Titles and Form Number: EIB 03-02, Application for Medium Term Insurance, Direct Loan or Guarantee.

OMB Number: 3048-0014.

Type of Review: Regular.

Need and Use: The purpose of this collection is to gather information necessary to make a determination of eligibility of a transaction for EXIM assistance under its medium-term guarantee and insurance program.

Affected Public: This form affects entities involved in the export of U.S. goods and services.

Annual Number of Respondents: 100.

Estimated Time per Respondent: 2 hours.

Annual Burden Hours: 200 hours.

Frequency of Reporting or Use: As needed.

Dated: July 2, 2025.
Andrew Smith,
Records Officer.

[FR Doc. 2025-12592 Filed 7-3-25; 8:45 am]

BILLING CODE 6690-01-P